DEPARTMENT OF ENERGY

Federal Energy Regulatory Commission

Combined Notice of Filings #1

Take notice that the Commission received the following electric rate filings:

Docket Numbers: ER01-1305-020.

Applicants: Westar Generating, Inc.

Description: Westar Generating, Inc. submits Informational compliance filing informing the Commission of its eleventh periodic rate adjustment in accordance with the Levelized Formula Rate of the Settlement Agreement.

Filed Date: 6/28/13.

Accession Number: 20130628-5309.

Comments Due: 5 p.m. ET 7/19/13.

Docket Numbers: ER10-1818-004; ER10-1819-005; ER10-1820-007; ER10-1817-005.

Applicants: Public Service Company of Colorado, Northern States Power Company, a Minnesota corporation, Northern States Power Company, a Wisconsin Corporation, Southwestern Public Services Company.

Description: Triennial Market Power Analysis of Public Service Company of Colorado for the Northwest Region.

Filed Date: 6/28/13.

Accession Number: 20130628-5300.

Comments Due: 5 p.m. ET 8/27/13.

Docket Numbers: ER10-2337-002; ER10-2338-002; ER10-2339-002; ER10-2340-002; ER10-2341-002; ER10-2342-002.

Applicants: CL Power Sales Eight, L.L.C., CP Power Sales Nineteen, L.L.C., CP Power Sales Seventeen, L.L.C., CP Power Sales Twenty, L.L.C., Edison Mission Marketing & Trading, Inc., Edison Mission Solutions, L.L.C.

Description: Triennial Market Power Analysis for the Southwest Region of the Edison Mission Energy subsidiaries.

Filed Date: 6/28/13.

Accession Number: 20130628-5314.

Comments Due: 5 p.m. ET 8/27/13.

Docket Numbers: ER10-2616-003; ER10-2587-001; ER10-2590-001; ER10-2593-001; ER10-2647-003.

Applicants: Dynegy Marketing and Trade, LLC, Dynegy Morro Bay, LLC, Dynegy Moss Landing, LLC, Dynegy Oakland, LLC, Dynegy Power Marketing, LLC.

Description: Triennial Market Power Analysis of the Dynegy MBR Sellers for the Southwest Region.

Filed Date: 6/28/13.

Accession Number: 20130628-5299.

Comments Due: 5 p.m. ET 8/27/13.

Docket Numbers: ER10-2848-002; ER11-1939-004; ER11-2754-004; ER12-999-002; ER12-1002-002; ER12-1005-002; ER12-1006-002; ER12-1007-003.

Applicants: AP Holdings, LLC, AP Gas & Electric (IL), LLC, AP Gas & Electric (PA), LLC, AP Gas & Electric (TX), LLC, AP Gas & Electric (MD), LLC, AP Gas & Electric (NJ), LLC, AP Gas & Electric (OH), LLC, AP Gas & Electric (NY), LLC.

Description: Updated Market Power Analysis for the Southwest Region of AP Holdings Subsidiaries.

Filed Date: 6/28/13.

Accession Number: 20130628-5298.

Comments Due: 5 p.m. ET 8/27/13.

Docket Numbers: ER11-2855-008; ER11-2856-008; ER11-2857-008.

Applicants: Avenal Park LLC, Sand Drag LLC, Sun City Project LLC.

Description: Triennial Market Power Analysis for the Southwest Region of the Avenel Park LLC, et al.

Filed Date: 6/28/13.

Accession Number: 20130628-5310.

Comments Due: 5 p.m. ET 8/27/13.

Docket Numbers: ER11-4258-001; ER11-4026-001.

Applicants: Desert View Power, Inc., Eel River Power LLC.

Description: Notice of Change in Status of the Greenleaf Companies.

Filed Date: 6/28/13.

Accession Number: 20130628-5308.

Comments Due: 5 p.m. ET 7/19/13.

Docket Numbers: ER13-1430-001; ER13-1561-001; ER10-2755-002; ER10-2739-005.

Applicants: Arlington Valley Solar Energy II, LLC, Centinela Solar Energy, LLC, Las Vegas Power Company, LLC, LS Power Marketing, LLC.

Description: Triennial Market Power Analysis for the Southwest Region of the LS Power Development, LLC subsidiaries.

Filed Date: 6/28/13.

Accession Number: 20130628-5317.

Comments Due: 5 p.m. ET 8/27/13.

Docket Numbers: ER13-1837-000.

Applicants: Terra-Gen Dixie Valley, LLC.

Description: Request for Waiver from requirement to file tariff amendments implementing interregional planning and cost allocation requirements.

Filed Date: 6/14/13.

Accession Number: 20130614-5170.

Comments Due: 5 p.m. ET 7/11/13.

Docket Numbers: ER13-1858-000.

Applicants: California Independent System Operator Corporation.

Description: 2013-06-28_CDWR_PLA_9 to be effective 7/1/2013.

Filed Date: 6/28/13.

Accession Number: 20130628-5232.

Comments Due: 5 p.m. ET 7/19/13.

Docket Numbers: ER13-1859-000.

Applicants: PJM Interconnection, L.L.C.

Description: Ministerial Clean-Up Filing re PJM OATT Att DD 5.10 due to Overlapping Filings to be effective 7/1/2013.

Filed Date: 6/28/13.

Accession Number: 20130628-5233.

Comments Due: 5 p.m. ET 7/19/13.

Docket Numbers: ER13-1860-000.

Applicants: Nevada Power Company.

Description: Rate Scehdule No. 137 Transmission Service Agreement—Cargill Power Markets to be effective 1/1/2016.

Filed Date: 6/28/13.

Accession Number: 20130628-5234.

Comments Due: 5 p.m. ET 7/19/13.

Docket Numbers: ER13-1861-000.

Applicants: Salinas River Cogeneration Company.

Description: Triennial Market Power Analysis for the Southwest Region to be effective 6/29/2013.

Filed Date: 6/28/13.

Accession Number: 20130628-5244.

Comments Due: 5 p.m. ET 8/27/13.

Docket Numbers: ER13-1862-000.

Applicants: Southwest Power Pool, Inc.

Description: 1166R18 Oklahoma Municipal Power Authority NITSA and NOA to be effective 6/1/2013.

Filed Date: 6/28/13.

Accession Number: 20130628-5248.

Comments Due: 5 p.m. ET 7/19/13.

Docket Numbers: ER13-1863-000.

Applicants: Entergy Arkansas, Inc.

Description: LEPA 2nd Rev. NITSA to be effective 6/1/2013.

Filed Date: 6/28/13.

Accession Number: 20130628-5250.

Comments Due: 5 p.m. ET 7/19/13.

Docket Numbers: ER13-1864-000.

Applicants: Southwest Power Pool, Inc.

Description: JOA Market-to-Market Compliance from Docket No. ER12-1179 to be effective 12/31/9998.

Filed Date: 6/28/13.

Accession Number: 20130628-5265.

Comments Due: 5 p.m. ET 7/19/13.

Docket Numbers: ER13-1865-000.

Applicants: Tesoro Refining & Marketing Company LLC.

Description: Wholesale MBR Tariff Filing to be effective 7/30/2013.

Filed Date: 6/28/13.

Accession Number: 20130628-5273.

Comments Due: 5 p.m. ET 7/19/13.

Docket Numbers: ER13-1866-000.

Applicants: San Diego Gas & Electric Company.

Description: SDGE TO Appendix X Formula Modification to be effective 7/1/2013.

Filed Date: 6/28/13.

Accession Number: 20130628-5276.

Comments Due: 5 p.m. ET 7/19/13.

Take notice that the Commission received the following qualifying facility filings:

Docket Numbers: QF13-532-000.

Applicants: Verizon Corporate Services Group Inc.

Description: Form 556 of Verizon Corporate Services Group Inc.

Filed Date: 6/27/13.

Accession Number: 20130627-5059.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2013.
Nathaniel J. Davis, Sr.,
Deputy Secretary.

[FR Doc. 2013-16446 Filed 7-8-13; 8:45 am]

BILLING CODE 6717-01-P